DEPARTMENT OF TRANSPORTATION

Federal Aviation Administration

Notice of Intent To Initiate a Deactivation Request for Tallahassee Commercial (68J), a Privately Owned Airport for Public Use Located in Tallahassee, FL

AGENCY: Federal Aviation Administration (FAA), DOT.

ACTION: Notice.

SUMMARY: This notice announces that the FAA intends to file a Deactivation request for Tallahassee Commercial Airport (68J), a privately owned for public use airport.

DATES: Comments are due on or before May 10, 2024. Permanent airport closure is applicable after this date.

ADDRESSES: Documents are available for review at the FAA Orlando Airports District Office, 8427 SouthPark Circle, Suite 524, Orlando, FL 32819. Written comments on the Sponsor's request must be delivered or mailed to: Jenny Iglesias-Hamann, Community Planner, Orlando Airports District Office, 8427 SouthPark Circle, Suite 524, Orlando, FL 32819.

FOR FURTHER INFORMATION CONTACT: Jenny Iglesias-Hamann, Community Planner, Orlando Airports District Office, 8427 SouthPark Circle, Suite 524, Orlando, FL 32819, or by telephone at (407) 487-7234.

SUPPLEMENTARY INFORMATION: The Eastern Service Area (ESA) Air Traffic Safety Action Program (ATSAP) Event Review Committee (ERC) has received reports from Tallahassee Air Traffic Control Tower (TLH) indicating the Tallahassee Commercial Airport (68J) is reported as closed via Notice to Air Missions (NOTAM), however, is still depicted on Visual Flight Rules (VFR) sectional charts. TLH controllers have had several instances where pilots have mistakenly tried to land at 68J airport due to it still being depicted on VFR sectional charts.

The 68J airport has been closed via NOTAM since 2011 when the owner of 68J was forced to close the runway (RWY) due to a large pavement failure. Airport Master Record states RWY 16/34 has surface cracking and shows Airport Status as closed indefinitely. The airport has continued to receive licensing under the presumption that progress was being made to repair the runway. It has been reported that no progress has been made to repair the runway pavement. A certified letter was sent to airport owner requesting corrective actions, with no response or comments received after 30 days.

(Authority: 1 CFR 22.2.)

Rebecca R. Henry,
Acting Manager, Orlando Airports District Office, Southern Region.

[FR Doc. 2024-07887 Filed 5-3-24; 8:45 am]

BILLING CODE 4910-13-P